DEPARTMENT OF ENERGY

Federal Energy Regulatory Commission

[Project No. 10395-032]

Electric Plant Board of the City of Augusta, KY; Notice of Withdrawal of Reconsideration and Limited Stay of Order Terminating License

June 9, 2006.

On March 31, 2006, the City of Hamilton, Ohio, filed a request for reconsideration and limited stay of the Commission's March 1, 2006 order terminating license for the Meldahl Project No. 10395.

On May 12, 2006, the City of Hamilton, Ohio, filed a notice of withdrawal of its request for reconsideration and limited stay. No one filed a motion in opposition to the withdrawal, and the Commission took no action to disallow it. Accordingly, pursuant to Rule 216 of the Commission's Rules of Practice and Procedure, 18 CFR 385.216 (2006), the withdrawal of the pleadings became effective on May 27, 2006.

Magalie R. Salas,
Secretary.

[FR Doc. E6-9391 Filed 6-15-06; 8:45 am]

BILLING CODE 6717-01-P